DEPARTMENT OF COMMERCE

International Trade Administration

Request for Public Comments Concerning Regulatory Cooperation Activities That Would Help Eliminate or Reduce Unnecessary Regulatory Divergences in North America That Disrupt U.S. Exports

AGENCY: International Trade Administration, Commerce.

ACTION: Notice; extension of comment period.

SUMMARY: This notice announces an extension of the request for public comment to the Federal Register notice on regulatory cooperation activities in North America. The comment period is extended to April 18, 2011.

DATES: The comment period for notice published on March 3, 2011 (76 FR 11760), is extended to April 18, 2011.

ADDRESSES: Submissions should be made via the internet at http://www.regulations.gov under docket ITA-2011-0003. Please direct written submissions to Diana Hynek, Departmental Paperwork Clearance Officer, Department of Commerce, Room 6616, 14th and Constitution Avenue, NW., Washington, DC 20230. The public is strongly encouraged to file submissions electronically rather than by mail.

FOR FURTHER INFORMATION CONTACT: Questions regarding this notice should be directed to regcoop@trade.gov.

SUPPLEMENTARY INFORMATION: The U.S. Department of Commerce (DOC) published a document in the Federal Register on March 3, 2011, inviting public comment on the following possible types of cooperative regulatory activities between or among the United States, Mexico, and Canada: Information-sharing agreements; technical assistance; memoranda of understanding, mutual recognition agreements; collaboration between regulators before initiating rulemaking proceedings; agreements to align particular regulatory measures; equivalency arrangements; and accreditation of testing laboratories or other conformity assessment bodies. These comments will serve as a basis for bilateral and trilateral discussion with Canada and Mexico on regulatory cooperation activities to undertake which will support the President's National Export Initiative and serve as a basis for discussion with the U.S.-Mexico High-Level Regulatory Cooperation Council and the U.S.-Canada Regulatory Cooperation Council.

The notice published on March 3, 2011 (76 FR 11760) informed interested parties that DOC would accept written comments no later than April 4, 2011. Associations and organizations with an interest in these activities have expressed concerns with the 30-day deadline and have requested an extension. Based on these requests, DOC is extending the comment period until April 18, 2011, to provide interested parties additional time to prepare and submit comments. DOC will accept comments received no later than April 18, 2011 and will not consider any further extensions to the comment period.

Requirements for Submissions: In order to ensure the timely receipt and consideration of comments, the Department of Commerce's International Trade Administration (ITA) strongly encourages commenters to make on-line submissions, using the www.regulations.gov Web site. Comments should be submitted under docket number ITA-2011-0003. To find this docket, enter the docket number in the “Enter Keyword or ID” window at the www.regulations.gov home page and click “Search.” The site will provide a search-results page listing all documents associated with that docket number. Find a reference to this notice by selecting “Notice” under “Document Type” on the search-results page, and click on the link entitled “Submit a Comment.” The http://www.regulations.gov Web site provides the option of making submissions by filling in a comments field, or by attaching a document. ITA prefers submissions to be provided in an attached document. (For further information on using the http://www.regulations.gov Web site, please consult the resources provided on the Web site by clicking on the “Help” tab.)

All comments and recommendations submitted in response to this notice will be made available to the public. For any comments submitted electronically containing business confidential information, the file name of the business confidential version should begin with the characters “BC”. The top of any page containing business confidential information must be clearly marked “BUSINESS CONFIDENTIAL”. Any person filing comments that contain business confidential information must also file in a separate submission a public version of the comments. The file name of the public version of the comments should begin with the character “P”. The “BC” and “P” should be followed by the name of the person or entity submitting the comments. If a comment contains no business confidential information, the file name should begin with the character “P”, followed by the name of the person or entity submitting the comments.

Please do not attach separate cover letters to electronic submissions; rather, include any information that might appear in a cover letter in the comments themselves. Similarly, to the extent possible, please include any exhibits, annexes, or other attachments in the same file as the submission itself, not as separate files.

Dated: March 29, 2011.
John Andersen,
Acting Deputy Assistant Secretary of Commerce for Market Access and Compliance, International Trade Administration.

[FR Doc. 2011-7849 Filed 3-31-11; 8:45 am]

BILLING CODE 3510-DA-P